DEPARTMENT OF COMMERCE

Foreign-Trade Zones Board

[B-68-2017]

Foreign-Trade Zone (FTZ) 241—Fort Lauderdale, Florida; Authorization of Production Activity; Marine Industries Association of South Florida (Yacht Repair/Refitting); Fort Lauderdale, Florida

On November 17, 2017, the City of Fort Lauderdale, grantee of FTZ 241, submitted a notification of proposed production activity to the FTZ Board on behalf of the Marine Industries Association of South Florida (MIASF), within Subzone 241A, in Fort Lauderdale, Florida.

The notification was processed in accordance with the regulations of the FTZ Board (15 CFR part 400), including notice in the Federal Register inviting public comment (82 FR 56212, November 28, 2017). On March 20, 2018, the applicant was notified of the FTZ Board's decision that no further review of the activity is warranted at this time. The production activity described in the notification was authorized, subject to the FTZ Act and the FTZ Board's regulations, including Section 400.14.

Dated: April 5, 2018.
Andrew McGilvray,
Executive Secretary.

[FR Doc. 2018-07327 Filed 4-9-18; 8:45 am]

BILLING CODE 3510-DS-P